DEPARTMENT OF LABOR

Occupational Safety and Health Administration

OSHA Training Institute (OTI) Education Center; Notice of Competition and Request for Applications

AGENCY: Occupational Safety and Health Administration (OSHA), Labor.

ACTION: Notice of competition and request for applications for the OSHA Training Institute Education Center program.

SUMMARY: This notice announces the opportunity for interested non-profit organizations, including eligible educational institutions, trade associations, labor unions, and community-based and faith-based organizations, that are not an agency of a state or local government to submit applications to become authorized as an OSHA Training Institute Education Center and deliver standard classroom instruction on a regional basis. This notice also contains information on a pre-proposal conference designed to provide potential applicants with information about the OSHA Training Institute Education Center program.

DATES: Applications (three copies) must be received no later than 4:30 p.m. Central Time on June 17, 2022. Requests for extension of this application deadline will not be granted.

A pre-proposal conference will be held on Wednesday, May 18, 2022, at the OSHA Office of Training and Education, 2020 South Arlington Heights Road, Arlington Heights, Illinois 60005-4102. Attendees are required to pre-register for this conference. Specific details are discussed in the “Pre-Proposal Conference” section of this notice.

ADDRESSES: Submit applications (three copies) to the OSHA Office of Training and Education, Division of Training Programs and Administration, Attn: James Brock, 2020 South Arlington Heights Rd., Arlington Heights, Illinois 60005-4102.

Applicants selected for authorization as an OSHA Training Institute Education Center must attend a mandatory orientation meeting. The venue, method, times, and dates are to be determined.

FOR FURTHER INFORMATION CONTACT: Information regarding this notice is available from the following sources:

Press inquiries: Contact Mr. Frank Meilinger, Director, OSHA Office of Communications, U.S. Department of Labor; telephone: (202) 693-1999; email: meilinger.francis2@dol.gov.

General and technical information: Contact Mr. James Brock, Branch Chief Training Programs, U.S. Department of Labor; telephone: (847) 725-7803; email: brock.james.e@dol.gov.

SUPPLEMENTARY INFORMATION: The supplemental information contains details concerning the following:

Table of Content

A. Background Information

1. Overview of the OSHA Office of Training and Education (OTE)

2. Overview of the OSHA Training Institute (OTI)

3. Overview of the OTI Education Center Program

4. Overview of the OSHA Outreach Training Program

B. Organizational Responsibilities

1. OTI Education Center Responsibilities

2. OSHA OTE Responsibilities

C. OSHA Jurisdiction

D. Geographic Distribution

E. Application Submission Requirements

F. Selection Guidelines

G. Selection Criteria

H. Consortia and Partnerships

I. Funding Provisions

J. Cooperative Agreement Duration

K. Pre-Proposal Conference

L. Application Submission

M. Application Deadline

N. Application Evaluation and Selection Process

O. Notification of Section

P. Freedom of Information Act

Q. Paperwork Reduction Act

R. Transparency

S. Notification of Non-Selection

T. Non-Selection Appeal

Authority and Signature

Appendix

A. Background Information

Interested non-profit organizations, including eligible educational institutions, trade associations, labor unions, and community-based and faith-based organizations, that are not an agency of a state or local government to submit applications to become authorized as an OSHA Training Institute Education Center and deliver standard classroom instruction on a regional basis. State or local government-supported institutions of higher education are eligible to apply. Eligible organizations can apply independently or in partnership with other eligible organizations, but in such a case, a lead organization must be identified along with a list of any consortium partners. Current OSHA-authorized OSHA Training Institute Education Centers required to renew their status must submit a new application, and be re-authorized by OSHA, in order to continue their authorization as an OSHA Training Institute Education Center. If the corporate identity of an applicant, or its membership has changed, the new entity must submit an application. Applications will only be accepted during the solicitation period and will be evaluated on a competitive basis. Complete application instructions are contained in this notice.

A pre-proposal conference will review OSHA expectations for OSHA Training Institute Education Centers, courses and methods of instruction, and administrative and program requirements for OSHA Training Institute Education Centers and the OSHA Outreach Training Program. Applicants are strongly encouraged to attend the pre-proposal conference.

OSHA will enter into five-year, non-financial cooperative agreements with successful applicants. These authorization agreements are intended to facilitate the ongoing monitoring and evaluation of safety training provided by authorized OSHA Training Institute Education Centers. These cooperative agreements will not constitute a grant or financial assistance instrument, and OSHA will provide no compensation to authorized OSHA Training Institute Education Centers. Such non-financial cooperative agreements are renewable, at the government's sole option, for one five-year period, if the organization has performed satisfactorily during the initial term. Please see discussion under “Cooperative Agreement Duration,” later in this notice for more information.

1. Overview of the OSHA Office of Training and Education (OTE)

OTE, located in Arlington Heights, Illinois, supports the agency's mission and performance goals of securing safe and healthful workplaces and increasing workers' voice in the workplace through the development and delivery of training courses and educational programs. The Office has three distinct functional areas: The OSHA Training Institute (OTI), the Division of Training Programs and Administration, and the Division of Training Educational Development (DTEP). The OTI provides training for Federal and state compliance officers and State consultants. The Division of Training Programs and Administration administers three distinct external training programs: The OSHA Training Institute (OTI) Education Center Program, the Outreach Training Program, and the Susan Harwood Training Grants Program. DTEP develops training and educational materials that support OTI and OTI Education Center courses and the agency's compliance assistance initiatives.

2. Overview of the OSHA Training Institute (OTI)

The OTI is OSHA's primary training provider for Federal and state compliance officers and state consultation program staff. OTI offers over 50 unique course offerings on an annual basis. Training includes job hazard recognition as well as OSHA standards, policies, and procedures for persons responsible for enforcing or directly supporting the Occupational Safety and Health Act of 1970. The OTI does not provide training for private and public sector personnel.

3. Overview of OTI Education Center Program

The OTI Education Centers are a national network of non-profit organizations authorized by OSHA to deliver occupational safety and health training for the advancement of safe and healthful workplaces for private and public sector workers, supervisors, and employers on behalf of OSHA. The OTI Education Center Program was initiated in 1992 when OSHA began partnering with other training and educational institutions to conduct OSHA courses. The OTI Education Center Program supports OSHA's training and education mission through a variety of occupational safety and health programs.

OTI Education Center courses include OSHA standards and Outreach Training Program trainer and update courses. The OTI Education Centers offer more than 50 courses on various safety and health topics, including recordkeeping, machine guarding, confined space, electrical standards, ergonomics, safety and health management, and fall protection. Information regarding the OTI Education Center Program background, including a complete list of current OTI Education Centers, OSHA numbered course offerings, and course descriptions can be found on the OSHA website at: https://www.osha.gov/otiec.

OTI Education Centers are selected through a national competitive process and receive no funding from OSHA; they support their OSHA training through their normal tuition and fee structures. OTI Education Centers are located in all OSHA Regions and work closely with OSHA Regional and Area offices to meet the needs of their regional constituencies. OTI Education Centers are encouraged to conduct courses at host training organizations in addition to their own facilities. OTI Education Centers are also integral to OSHA's process for authorizing Outreach trainers, processing Outreach trainer card requests, and conducting Outreach trainer monitoring activities for the OSHA Outreach Training Program.

4. Overview of the OSHA Outreach Training Program

OSHA established the Outreach Training Program (OTP)to provide an overview of OSHA and to disseminate basic occupational safety and health workplace hazard information to workers using independent OSHA authorized trainers. OSHA administers the OTP including the establishment of program requirements and providing program review and oversight. Courses are intended to provide information on worker rights and employer responsibilities and to focus on work-related hazards. OTP courses do not focus on or teach OSHA standards. Workers who complete the construction industry, general industry, maritime industry, or disaster site worker Outreach courses receive OSHA student course completion cards from the authorized trainer who conducted the training. OSHA Outreach trainers are authorized by OSHA exclusively through the OTI Education Centers. OTI Education Centers are responsible for administering the Outreach Training Program, including issuing course completion cards to authorized Outreach trainers and conducting monitoring activity such as record audits and training observations.

The Outreach Training Program is a voluntary program; however some cities and states have enacted laws mandating the training. Some employers, unions, organizations, or other jurisdictions may also require this training. OSHA recommends Outreach Training Program courses as an introduction to occupational safety and health hazard recognition for workers. Please note that Outreach Training Program courses do not meet specific training requirements contained in OSHA standards. OSHA publishes Outreach Training Program requirements and procedures to provide instructions and information to Outreach trainers. Items addressed in the requirements and procedures include course topic requirements, minimum contact hours for course topics, advertising restrictions, records retention, and reporting requirements. OSHA Outreach Training Program requirements and procedures can be accessed at: https://www.osha.gov/training/outreach.

B. Organizational Responsibilities

1. OTI Education Center Responsibilities

OTI Education Centers must:

(1) Adhere to all OSHA/OTE program requirements, policies, and procedures.

(2) Maintain updated course curriculum to support learning objectives determined by OSHA/OTE.

(3) Ensure instructors are qualified in the courses/subjects they will be teaching in accordance with OSHA instructor qualification policies.

(4) Meet annual program goals that include the following:

(a) Achieve annual student training and course offering goals as established by OSHA/OTE. Program goals are evaluated and revised annually. For the Federal fiscal year 2022, each OTI Education Center is expected to train 1,700 students and offer 95 courses annually.

(b) Provide standard classroom instruction training throughout their region and target underserved areas and worker populations. All consortium members must offer, deliver, and/or support the delivery of open-enrollment standard classroom instruction throughout their region.

(c) Conduct courses on a year-round basis with each required, elective, and short course being offered in accordance with annual program goals. Required, elective, and short courses are subject to change. (See Appendix A for a current list of required, elective, and short courses)

(5) Publicize and promote the availability of open enrollment courses to ensure attendance and the delivery of the scheduled courses.

(6) Register students, provide course materials, and issue course completion certificates to students. This includes:

(a) Ensuring students have met all prerequisites prior to registration.

(b) Collecting and retaining student registration and attendance records in accordance with OSHA/OTE guidelines.

(7) Comply with reporting requirements as identified by OSHA/OTE. This includes:

(a) Providing OSHA/OTE with monthly training summary reports.

(b) Providing OSHA/OTE with training and instructor records for quarterly audits and semi-annual and annual performance reporting.

(c) Collecting student surveys in accordance with OSHA procedures and providing to OSHA as requested.

(8) Administer Outreach Training Program activities. This includes:

(a) Distributing student cards to authorized Outreach trainers.

(b) Monitoring Outreach trainers including conducting record audits and training observations.

(c) Processing exception requests in accordance with Outreach Training Program requirements.

(d) Guiding and mentoring new Outreach trainers to assist them with program compliance and delivery of quality training.

(9) Attend the semi-annual OSHA Training Institute Education Center Directors meetings. Directors meetings are intended for OTI Education Center Directors. Key staff may also attend.

(10) Collaborate with other OTI Education Centers including participation on project teams and providing financial and personnel support for OTI Education Center marketing initiatives.

(11) Provide dedicated staff for program management and administration including an OTI Education Center Director and necessary support staff to achieve program goals.

(12) Offer open enrollment OTI Education Center courses to all areas within their region, supported by all consortium members.

(13) Ensure remote synchronous offerings restrict registrations to students located within the OTI Education Center's region.

(14) Ensure all course offerings maintain a lecture to higher-level interactive training ratio of 1/3:2/3.

2. OSHA OTE Responsibilities

OTE will:

(1) Develop program policies, procedures, and requirements.

(2) Provide answers and technical assistance related to OSHA policy and program requirements.

(3) Provide learning objectives for all courses, update existing course curricula, and provide new course curricula as needed.

(4) Coordinate the development of new OTI Education Center courses.

(5) Monitor the performance of the OTI Education Centers through on-site program visits, conference calls, training observations, and programmatic audits.

(6) Participate in the OTI Education Center Program Executive Committee.

(7) Evaluate the effectiveness of the OTI Education Centers and provide each OTI Education Center with an annual performance appraisal.

(8) Conduct investigations of alleged OTI Education Center non-compliance with the Non-Financial Cooperative Agreement and OSHA policies and procedures.

C. OSHA Jurisdiction

OSHA is a Federal agency within the United States. The agency covers workers and employers in the 50 United States and certain territories and jurisdictions under Federal authority. Those jurisdictions include the District of Columbia, Puerto Rico, the Virgin Islands, American Samoa, Guam, Commonwealth of the Northern Mariana Islands, Wake Island, Johnston Island, and the Outer Continental Shelf Lands as defined in the Outer Continental Shelf Lands Act.

D. Geographic Distribution

There is currently at least one OTI Education Center in each OSHA Region. However, OSHA may elect to select more than one OTI Education Center in some or all OSHA Regions. The OSHA Regions contain the following states and U.S. territories.

Region I: Connecticut, Maine, Massachusetts, New Hampshire, Rhode Island, and Vermont.

Region II: New Jersey, New York, Puerto Rico, and Virgin Islands.

Region III: Delaware, District of Columbia, Maryland, Pennsylvania, Virginia, and West Virginia.

Region IV: Alabama, Florida, Georgia, Kentucky, Mississippi, North Carolina, South Carolina, and Tennessee.

Region V: Illinois, Indiana, Michigan, Minnesota, Ohio, and Wisconsin.

Region VI: Arkansas, Louisiana, New Mexico, Oklahoma, and Texas.

Region VII: Iowa, Kansas, Missouri, and Nebraska.

Region VIII: Colorado, Montana, North Dakota, South Dakota, Utah, and Wyoming.

Region IX: American Samoa, Arizona, California, Guam, Hawaii, Nevada, and Commonwealth of the Northern Mariana Islands.

Region X: Alaska, Idaho, Oregon, and Washington.

E. Application Submission Requirements

Submissions that are not in accordance with the application submission requirements listed below will not be considered. The application must include the following:

(1) Program Summary. The program summary is a one to two page double-spaced abstract that succinctly summarizes the applicant's and any consortium partners' background, experience, and qualifications in occupational safety and health and training. The program summary must also provide:

(a) Contact information including the following:

• The name, address, and phone number of the lead organization and all consortium partners. A post office box will not be accepted.

• The name, title, address, telephone number, and email address of the program director who can answer questions regarding the application.

(b) Information on which OTI Education Center courses may be offered and any relevant language or target audience information.

(2) Program Narrative. The program narrative must be numbered and not exceed 30 double-spaced pages. Attachments will not be included in the page count.

(3) Applicant Eligibility. In order to be eligible, each organization must document the following. Organizations that do not address the following will not be given further consideration.

(a) Non-Profit Status. Include evidence of non-profit status of the lead organization and each member organization if applying as a consortium. A letter from the Internal Revenue Service, State, or a statement included in a recent audit report is preferred. In the absence of these, a copy of the articles of incorporation showing the non-profit status will be accepted.

(b) Authority to Apply. Provide a letter on letterhead signed by the company president, Chief Executive Officer, Board of Directors, Board of Regents, or other governing body of the applicant approving the submittal of an application to OSHA to become authorized as an OTI Education Center.

(c) Occupational Safety and Health Training Experience. Demonstrate previous experience delivering occupational safety and health training to adults.

(d) Status as a Training Organization. (This applies only to applicants that are not colleges or universities.) Document that training or education is a principal activity of the applicant. Through audit reports, annual reports, or other documentation, the applicant must clearly demonstrate that for the last two calendar years more than 50 percent of the applicant's funds have been used for training and education activities and more than 50 percent of staff resources have also been used for this purpose.

(e) Curriculum Development. Explain the applicant's process for developing and updating occupational safety and health curricula to meet learning objectives provided by OSHA.

(f) Training Facilities. Provide detail regarding available classrooms, laboratories, and testing facilities. The applicant must have training facilities that are under their direct control.

(g) Training Throughout the OSHA Region. Provide details regarding the applicant's ability to provide standard in-person classroom training across the OSHA Region in which the applicant is physically located. Each consortium member must contribute to this effort.

(h) Nondiscrimination. Provide copies of the applicant's nondiscrimination policies covering staff and students. In the absence of a written policy, explain how the applicant will ensure that staff and students are selected without regard to race, ethnicity, religion, national origin, gender, age, or disability.

(4) Diversity, Equity, Inclusion, and Accessibility (DEIA). OSHA is committed to ensuring DEIA principles are integrated into its training programs. DEIA represents consistent and systematic fair, just, and impartial treatment of all individuals, including individuals who belong to underserved communities that have been denied such treatment, such as Black, Latino, and Indigenous and Native American persons, Asian Americans and Pacific Islanders and other persons of color; members of religious minorities; lesbian, gay, bisexual, transgender, and queer (LGBTQ+) persons; persons with disabilities; persons who live in rural areas; and persons who otherwise adversely affected by persistent poverty or inequity. Applicants who demonstrate their commitment to DEIA in their organization description and can demonstrate the extent they have institutionalized DEIA principles within their operations, outreach, and training will receive one bonus point. Additionally, applicants are encouraged to describe how training programs will be accessible to the most prominent linguistic communities located within your region. Applicants who address this will receive one bonus point.

F. Selection Guidelines

OSHA does not have a predetermined number of applicants to be selected to act as authorized OTI Education Centers. The number of applicants selected will be determined on a competitive basis using the selection criteria contained in this announcement.

G. Selection Criteria

Applications that meet the factors listed in the “Applicant Eligibility” section above will be reviewed by a technical panel based on the criteria listed below.

(1) Organizational Commitment (10 Points)

(a) Explicit commitment of the highest-ranking executive of the applicant's organization (e.g., company president, Chief Executive Officer, Board of Directors, Board of Regents, or other governing body) to fully utilize all available organizational resources necessary to support a large-scale occupational safety and health training program.

(b) To fully address this element, the proposal must:

(i) Include a signed Letter of Commitment from company president, Chief Executive Officer, Board of Directors, Board of Regents, or other governing body of the applicant detailing how they will support the initial startup, the short-term viability, and the long-term growth of an OTI Education Center.

(ii) Clearly state the metrics and outcomes the applicant will use to formally evaluate and assess the success of an OTI Education Center program.

(2) Organizational Experience and Qualifications (20 Points)

(a) Experience delivering occupational safety and health training in the construction, general, and maritime industries.

(b) Experience training adult learners.

(c) Ability to deliver required, elective, and short OTI Education Center courses; (See Appendix A for a current list of required, elective and short courses).

(d) Provision for a systematic process for developing and updating occupational safety and health curricula to support learning objectives provided by OSHA.

(e) Resources for supporting a large-scale occupational safety and health training program, such as appropriate management, instructional staff, and administrative staff to fulfill all program requirements including marketing, registration, student training materials, instruction, reporting, and Outreach Training Program administration.

(f) To fully address this element, the proposal must:

(i) Describe experience delivering occupational safety and health training including the number of classes offered, number of students taught in each class, and number of student contact hours for each course during the last three calendar years.

(ii) Include copies of catalogs and other marketing materials that provide descriptive material about occupational safety and health training courses.

(iii) Describe ability to deliver OTI Education Center courses including required, elective, and short courses. Please note the required, elective and short course offerings are subject to change. A current list of required, elective and short courses may be found at Appendix A. The complete list of courses and descriptions is available online at https://www.osha.gov/otiec/courses/all.

(iv) Indicate the number of occupational safety and health courses for which the applicant has developed curricula within the last three calendar years including the title and student contact hours for each course.

(v) Indicate the number of synchronous remote delivery and instructor-led in-person classroom training occupational safety and health courses the applicant has conducted within the last three calendar years including title, student contact hours, and number of trainees.

(vi) Describe applicant's process for evaluating course content as it relates to student learning outcomes and process for reviewing and updating curricula and course materials.

(vii) Demonstrate that the applicant, and when applicable the applicant's consortium, is capable of providing in-person classroom training throughout the OSHA Region in which the lead organization and consortium partner(s) are physically located. Applicants with consortium members must identify the portion of the region or target audiences for which each consortium member is responsible.

(3) Staff Experience and Qualifications (15 Points)

(a) Staff experience in delivering training courses to adults in occupational safety and health in construction, maritime, and general industries.

(b) Staff experience with occupational safety and health training topics including the application of OSHA standards to the recognition, avoidance, abatement, and prevention of workplace hazards.

(c) Professional certifications related to occupational safety and health held by staff such as such as Certified Safety Professional, Professional Engineer, Marine Chemist, or Certified Industrial Hygienist.

(d) Staff experience in managing and administering a training program including student registration and enrollment, class scheduling, course preparation, records maintenance, and marketing.

(e) To fully address this element, the proposal must:

(i) Include an organizational chart of the department responsible for training. Indicate number and titles of staff positions that will be dedicated to the OTI Education Center program along with the expected annual number of man-hours that will be allocated to the Program.

(ii) Describe staff knowledge of and experience with OSHA standards and their application to hazard recognition and hazard abatement.

(iii) Describe applicant's process for evaluating instructor effectiveness in the classroom. Provide copies of evaluation measures, checklists, and forms used to evaluate instructors.

(iv) Include resumes for current staff and instructors responsible for conducting OSHA courses. Provide position descriptions for positions to be filled.

(4) Location and Training Facilities (10 Points)

(a) Ability to conduct standard classroom instruction training throughout the applicant's region.

(b) Classroom facilities available for delivery of training including room capacity, availability of audiovisual equipment, and appropriate laboratories and other facilities available for hands-on exercises.

(c) Availability of testing center, evaluation center, or comparable facility.

(d) Provisions for accessibility for persons with disabilities.

(e) Accessibility of the training facility to population centers, including such factors as distance from a major airport, transportation from the airport to hotels, and distance from the interstate system.

(f) Availability and affordability of lodging and accommodations, food service, and restaurants available both in the area in which the classes will be held and in the area where the hotels are located.

(g) Availability of local transportation, including how students will be transported between the hotels and classes using hotel shuttles, public transportation, or other means.

(h) To fully address this element, the proposal must:

(i) Describe the accessibility of the training facility for students within local commuting area.

(ii) Clearly identify the applicant has classrooms, laboratories, and testing facilities available. Training facilities must be under the direct control of the applicant. Floor plans are encouraged and may be included as an attachment.

(iii) Include such items as distance from a major airport, number of airlines serving the airport, transportation from the airport to hotels, and distance from the interstate system.

(iv) Provide a representative listing of hotels available for student accommodation and give sample room rates. Explain how students will be transported between the hotels and classes. Describe restaurants available both in the area in which the classes will be held and in the area where the hotels are located.

(v) Describe the applicant's ability and plan to provide off-site and host training organization site training within their respective region including procedures to assure classroom facilities and accommodations are adequate. Off-site training includes the ability to conduct courses at sites other than the applicant's facilities and in other states and U.S. territories within your region. Host training organizations must be non-profit organizations and proof of non-profit status is required.

(5) Marketing (15 Points)

(a) Experience in marketing training to adults.

(b) Ability to effectively market occupational safety and health training programs.

(c) Utilization of various media to support marketing efforts.

(d) Ability to solicit and deliver training on a contract basis.

(e) Resources sufficient to support participation in national industry conferences in order to market the OTI Education Center programs.

(f) To fully address this element, the proposal must:

(i) Explain applicant's procedures for marketing training courses and recruiting adult learners.

(ii) Include examples of current course marketing materials such as catalogs, flyers, brochures, emails, website URLs and screen shots, postcards, use of social media, and any other associated relevant materials.

(iii) Explain how applicant will promote its status as an OTI Education Center.

(iv) Describe applicant's experience in exhibiting at conferences and trade shows.

(6) Administrative Capabilities (20 Points)

(a) Ability to administer a large-scale occupational safety and health training program including employment of clerical and support staff and customer service capabilities to fulfill program requirements.

(b) Ability to administer the Outreach Training Program, including processing card requests for Outreach trainers and conducting Outreach monitoring activities such as record audits and training observations.

(c) Ability to compile and submit reports and other training data.

(d) Capability to provide mandatory reports consistent with current OSHA requirements, including the ability to submit reports based on templates provided by OSHA/OTE. Please note, OSHA periodically revises reporting requirements.

(e) Ability to respond to inquiries from OSHA and the public.

(f) Ability to manage student records.

(g) To fully address this element, the proposal must:

(i) Describe registration procedures and provisions for course cancellation, and processes for providing course materials to students, verifying course prerequisites are met in advance of registration, and collecting tuition or fees.

(ii) Describe capabilities to process and issue course completion documents to students.

(iii) Describe personnel and resources available to conduct Outreach monitoring activities, including record audits and training observations.

(iv) Include information about applicant's record retention policy and ability to issue replacement course completion documents. Please note OSHA requires records to be maintained for a minimum of five years.

(v) Explain the procedures that will be implemented for reporting to OSHA/OTE.

(vi) Provide specific details regarding the applicant's full-time customer service staff, capabilities, and/or planned approach for responding to questions from students; handling questions and concerns related to occupational safety and health; resolving problems associated with a class, whether received via student satisfaction surveys or direct communication from a student; and issuing replacement course completion certificates in a timely manner, including verification of student identity and training completion.

(vii) Provide a copy of the applicant's tuition and fee schedule; explain how tuition or fees will be computed for each OTI Education Center numbered course, referencing the applicant's tuition and fee schedule; and describe tuition and fee procedures including provisions for the collection of tuition, cancellation fees, and issuing refunds.

(7) Evaluation (10 Points)

OSHA utilizes Kirkpatrick's Levels of Evaluation as described below. Each OTI Education Center is responsible for collecting and submitting student surveys.

Satisfaction Survey (Level I Evaluation) to Measure Reaction. Each student must receive a satisfaction survey to assess student perceptions of the quality of the training.

Testing (Level II Evaluation) to Measure Learning. Learning assessments measure the skills and knowledge that the trainees retain as a result of the training. Testing is mandatory at the end of the OSHA General Industry, Construction, and Maritime standards courses and the Outreach trainer courses.

Follow-up Impact Survey (Level III Evaluation) to Measure Results. Each applicant must be knowledgeable and be capable of assessing training effectiveness using Level III evaluations.

(a) Ability to administer student surveys in a classroom setting.

(b) Ability to administer exams and ensure test integrity.

(c) Ability to assess the effectiveness of training after an elapsed time period.

(d) Ability to summarize and report evaluation results.

(e) To fully address this element, the proposal must:

(i) Describe the applicant's experience in evaluating training programs.

(ii) Describe applicant's experience in administering student surveys. Provide examples of student surveys presently in use.

(iii) Describe applicant's experience in administering classroom exams and the process for ensuring test integrity.

(iv) Describe applicant's experience conducting follow-up evaluations that measure behavior and/or results.

(8) DEIA (1 Bonus Point)

Applicants demonstrating their organization's commitment to DEIA may submit their organization's equity plan and demonstrate the extent they have institutionalized DEIA principles within their operations will receive one bonus point.

(9) Language Accessibility (1 Bonus Point)

Applicants describing how training programs will be accessible to the most prominent linguistic communities located within their region will receive one bonus point.

H. Consortia and Partnerships

Applicants may join with one or more other non-profit organizations in their region to apply as a consortium. A training or education institution may elect to apply for this program in partnership with a safety and health organization that is not primarily a training organization. For example, a university could enter into an agreement with a labor union that provides for the use of university classrooms and faculty supplemented by union safety and health professionals. All consortium partners must be physically located in the same OSHA region. Partners must designate a lead organization that will be responsible for program reporting and Outreach Training Program administration including Outreach card distribution. OTI Education Centers may request to change the lead organization within a consortium in writing. OTE will only consider changes to the lead organization when all consortium members support the change.

I. Funding Provisions

OSHA provides no funding to OTI Education Centers. OTI Education Centers are expected to support their training through their normal tuition and fee structures.

J. Cooperative Agreement Duration

Selected applicants will sign five-year non-financial cooperative agreements with OSHA. Such an agreement may be renewed at the government's sole discretion without the additional competition otherwise required by this notice for one additional five-year period, provided that: (1) OSHA found the OTI Education Center's performance during the cooperative agreement to be satisfactory; (2) the OTI Education Center has not altered its existing membership of constituent organizations (i.e., the member organizations that comprise its consortium); and (3) the OTI Education Center has not had any significant findings of program non-compliance or served any period of probation or suspension.

The agency reserves the right to revoke the authorization of an OTI Education Center. Either party may terminate the cooperative agreement with advance written notice, provided both parties continue to meet all obligations of the agreement for the duration of the advance notice period.

K. Pre-Proposal Conference

A pre-proposal conference will be held to provide potential applicants with information about the OTI Education Center Program. The conference will also review OSHA expectations for OTI Education Centers, courses and methods of instruction, and administrative and program requirements for OTI Education Centers and the OSHA Outreach Training Program. Attendance at the pre-proposal conference is not mandatory, but applicants are strongly encouraged to attend.

The pre-proposal conference is scheduled for Wednesday, May 18, 2022, at the OSHA Directorate of Training and Education, 2020 S. Arlington Heights Road, Arlington Heights, Illinois 60005-4102.

Attendees are required to register for this pre-proposal conference. Applicants interested in attending this conference must register by emailing otiecreports@dol.gov.

Required registration information includes:

(1) Name and street address of the organization; and

(2) Name, title, telephone number, and email address of the attendee(s).

Registration information must be submitted no later than Wednesday, May 11, 2022.

L. Application Submission

Applications must be submitted to the attention of James Brock, Branch Chief, Training Programs, OSHA Office of Training and Education, 2020 S Arlington Heights Road, Arlington Heights, Illinois 60005-4102.

Applicants must submit three copies of the application. Applications may be bound. The program narrative must not exceed 30 pages. Attachments will not be included in the page count. Applications must be double-spaced, in 12-point font, with all pages numbered, including attachments. Attachments must only include essential documents that are relevant to this program.

M. Application Deadline

Applications must be received by the OSHA Office of Training and Education no later than 4:30 p.m., Central Time, on June 17, 2022. Requests for extension to this application deadline will not be granted.

N. Application Evaluation and Selection Process

Applications will be reviewed by technical panels comprised of OSHA staff. The technical panels will review applications based on criteria listed in this notice to determine which applicants best meet the stated requirements. As part of the evaluation and selection process, OSHA may request additional information from applicants. This may include written requests for clarification, phone or in-person interviews, access to existing programs, and on-site visits of applicant facilities. OSHA will attempt to select qualified applicants who have the ability to provide training throughout their region based on program needs. The panels' recommendations to the Assistant Secretary are advisory in nature. The final decision will be made by the Assistant Secretary of Labor for Occupational Safety and Health.

O. Notification of Selection

Applicants will be notified by a representative of the Assistant Secretary of Labor for Occupational Safety and Health if their organization is selected to be authorized as an OSHA Training Institute Education Center. Applicants selected to be authorized as OSHA Training Institute Education Centers must attend a mandatory orientation meeting at a time and date to be provided after selection.

An organization may not deliver OSHA Training Institute Education Center courses until the program has been authorized, the organization has signed a non-financial cooperative agreement with OSHA, and the organization has participated in the orientation meeting.

P. Freedom of Information Act

Information submitted in the respondent's application is not considered confidential. Organization's application data may be releasable under the Freedom of Information Act.

Q. Paperwork Reduction Act

Interested parties must submit an application as discussed under section “Application Submission Requirements.” According to the Paperwork Reduction Act, an agency may not conduct or sponsor, and no persons are required to respond to, a collection of information unless such collection displays a valid Office of Management and Budget (OMB) control number. The application provides to OSHA basic information about the applicant. Information will be used to evaluate the qualifications of the applicants, including their ability to serve the regional population; determine ability to conduct OSHA courses for private sector personnel and Federal personnel from agencies other than OSHA; and to evaluate the applicant's competence to provide the proposed training (including the qualifications of the personnel to manage and implement the training). OSHA estimates employer burden for the completion of this application is sixty hours per application. These estimates include the time for reviewing instructions, searching existing data sources, gathering and maintaining the data needed, and completing and reviewing the collection of information.

The application was previously reviewed and approved for use by OMB under the provisions of the Paperwork Reduction Act of 1995 (Pub. L. 104-13). The assigned OMB control number is 1218-0262

R. Transparency

The Department of Labor is committed to conducting a transparent selection process and publicizing information about program outcomes. Applications or abstracts may be posted on public websites as a means of promoting and sharing innovative ideas.

S. Notification of Non-Selection

Applicants will be notified in writing if their organization is not selected to be authorized as an OSHA Training Institute Education Center.

T. Non-Selection Appeal

All decisions by the Assistant Secretary of Labor for Occupational Safety and Health are final. The Department of Labor does not provide an appeal procedure for applicants that are not selected.

Authority and Signature

Douglas L. Parker, Assistant Secretary of Labor for Occupational Safety and Health, authorized the preparation of this notice. Accordingly, the agency is issuing this notice pursuant to Secretary of Labor's Order No. 8-2020 (85 FR 58393, Sept. 18, 2020), and 29 CFR 1910.7.

Signed at Washington, DC.
Douglas Parker,
Assistant Secretary of Labor for Occupational Safety and Health.

Appendix A—Current List of Required, Elective and Short Courses ¹

¹ Subject to change based on agency initiatives, yearly annual performance criteria and national emphasis programs.

(1) Present OTI Courses

(a) FY 2017 rating criterion is 95 courses conducted annually with a minimum of four in-person courses per month.

(b) Present all OTI Courses as follows:

(i) OTI Education Centers are required to present the following ten courses annually:

(1) #500 Trainer Course in Occupational Safety and Health Standards for the Construction Industry

(2) #501 Trainer Course in Occupational Safety and Health Standards for General Industry

(3) #502 Update for Construction Industry Outreach Trainers

(4) #503 Update for General Industry Outreach Trainers

(5) #510 Occupational Safety and Health Standards for the Construction Industry

(6) #511 Occupational Safety and Health Standards for General Industry

(7) #3095 Electrical Standards

(8) #3115 Fall Protection

(9) #7500 Introduction to Safety and Health Management

(10) #7845 Recordkeeping Rule Seminar

(ii) OTI Education Centers are required to present at least five of the following elective courses annually:

(1) #521 OSHA Guide to Industrial Hygiene

(2) #2015 Hazardous Materials

(3) #2045 Machinery and Machine Guarding Standards

(4) #2055 Cranes in Construction

(5) #2225 Respiratory Protection

(6) #2255 Principles of Ergonomics

(7) #2264 Permit-Required Confined Space Entry

(8) #3015 Excavation, Trenching, and Soil Mechanics

(9) #3085 Principles of Scaffolding

(10) #5029 Cal/OSHA Update for Construction Industry Outreach Trainers

(11) #5039 Cal/OSHA Update for General Industry Outreach Trainers

(12) #5109 Cal/OSHA Standards for the Construction Industry

(13) #5119 Cal/OSHA Standards for General Industry

(14) #5400 Trainer Course in Occupational Safety and Health Standards for the Maritime Industry

(15) #5402 Maritime Industry Trainer Update Course

(16) #5410 Occupational Safety and Health Standards for the Maritime Industry

(17) #5600 Disaster Site Worker Trainer Course

(18) #5602 Update for Disaster Site Worker Trainer Course

(19) #5810 Hazards Recognition and Standards for On Shore Oil and Gas Exploration and Production

(20) #6005 Collateral Duty Course for Other Federal Agencies

(21) #6015 Occupational Safety and Health Course for Other Federal Agencies

(iii) OTI Education Centers are required to present at least three of the following short courses annually:

(1) #7000 OSHA Training Guidelines for Safe Patient Handling

(2) #7005 Public Warehousing and Storage

(3) #7100 Introduction to Machinery and Machine Safeguarding

(4) #7105 Evacuation and Emergency Planning

(5) #7110 Safe Bolting: Principles and Practices

(6) #7115 Lockout/Tagout

(7) #7120 Introduction to Combustible Dust Hazards

(8) #7200 Bloodborne Pathogen Exposure Control

(9) #7205 Health Hazard Awareness

(10) #7210 Pandemic Illness Preparedness

(11) #7215 Silica in Construction, Maritime, and General Industries

(12) #7225 Transitioning to Safer Chemicals

(13) #7300 Understanding OSHA's Permit-Required Confined Space Standard

(14) #7400 Occupational Noise Exposure Hazards

(15) #7405 Fall Hazard Awareness for the Construction Industry

(16) #7410 Managing Excavation/Trenching Operations

(17) #7415 OSHA Construction Industry Requirements (Major Hazards and Prevention)

(18) #7505 Introduction to Incident (Accident) Investigation

(19) #7510 Introduction to OSHA for Small Business

[FR Doc. 2022-07652 Filed 4-15-22; 8:45 am]

BILLING CODE 4510-26-P